DEPARTMENT OF ENERGY

Federal Energy Regulatory Commission

[Docket No. IC21-3-000 and RD20-4-000]

Commission Information Collection Activities (Ferc-725d); Comment Request; Extension

AGENCY: Federal Energy Regulatory Commission, Department of Energy.

ACTION: Notice of information collection and request for comments.

SUMMARY: In compliance with the requirements of the Paperwork Reduction Act of 1995, the Federal Energy Regulatory Commission (Commission or FERC) is soliciting public comment on a renewal of currently approved information collection, FERC-725D (Facilities Design, Connections and Maintenance Reliability Standards). This notice includes all modified standards included in FERC725D (FAC-001-3, FAC-002-3, FAC-010-2, FAC-011-3, and FAC-014-2) in Docket no. IC21-3-000 for renewal which already reflect the changes mentioned in version update RD20-4-000 published separately. All burden totals supersede previous notices for both dockets.

DATES: Comments on the collection of information are due February 12, 2021.

ADDRESSES: You may submit comments (identified by Docket No. IC21-3-000 and RD20-4-000) by one of the following methods:

• eFiling at Commission's website: http://www.ferc.gov.

• U.S. Postal Service Mail: Persons unable to file electronically may mail similar pleadings to the Federal Energy Regulatory Commission, 888 First Street NE, Washington, DC 20426

• Effective 7/1/2020, delivery of filings other than by eFiling or the U.S. Postal Service should be delivered to Federal Energy Regulatory Commission, Office of the Secretary 12225 Wilkins Avenue, Rockville, Maryland 20852.

Instructions: All submissions must be formatted and filed in accordance with submission guidelines at: http://www.ferc.gov. For user assistance, contact FERC Online Support by email at ferconlinesupport@ferc.gov, or by phone at (866) 208-3676 (toll-free).

Docket: Users interested in receiving automatic notification of activity in this docket or in viewing/downloading comments and issuances in this docket may do so at http://www.ferc.gov.

FOR FURTHER INFORMATION CONTACT: Ellen Brown may be reached by email at DataClearance@FERC.gov, telephone at (202) 502-8663.

SUPPLEMENTARY INFORMATION:

Title: FERC-725D ,¹ Facilities Design, Connections and Maintenance Reliability Standards.

¹ This renewal is being submitted to extend the OMB expiration date and will not have an effect on the Docket No. RD20-4 that was also addressed separately.

OMB Control No.: 1902-0247.

Type of Request: Three-year approval of the FERC-725D information collection requirements, with no changes to the reporting or recordkeeping requirements. (There are adjustments to the estimates to update the totals that represent the numbers reflected in the NERC Compliance Registry as of July 17, 2020).

Abstract: On August 8, 2005, The Electricity Modernization Act of 2005, which is Title XII of the Energy Policy Act of 2005 (EPAct 2005), was enacted into law. EPAct 2005 added a new section 215 to the Federal Power Act (FPA), which requires a Commission-certified Electric Reliability Organization (ERO) to develop mandatory and enforceable Reliability Standards, subject to Commission review and approval. Once approved, the Reliability Standards may be enforced by the ERO, subject to Commission oversight, or by the Commission independently. Section 215 of the FPA requires a Commission-certified ERO to develop mandatory and enforceable Reliability Standards, subject to Commission review and approval. Once approved, the Reliability Standards may be enforced by the ERO subject to Commission oversight or by the Commission independently. In 2006, the Commission certified NERC (now called the North American Electric Reliability Corporation) as the ERO pursuant to section 215 of the FPA. On March 16, 2007 (pursuant to section 215(d) of the FPA), the Commission issued Order No. 693, approving 83 of the 107 initial Reliability Standards filed by NERC. In the intervening years, numerous changes have been made to update, eliminate, or establish various Reliability Standards.

The information collected by FERC-725D is required to implement the statutory provisions of section 215 of the Federal Power Act (FPA) (16 U.S.C. 824c). The following standards are included in FERC-725D.

• FAC-001-3 (Facility Interconnection Requirements) ² requires each transmission owner and applicable generator owner to document facility interconnection requirements, and to make them available upon request to entities seeking to interconnect. In addition, Reliability Standard FAC-001-3 requires each transmission owner and applicable generator owner to include procedures for coordinating studies to determine the impact of interconnecting facilities on existing interconnections as well as on affected systems.

² FAC-001-3 is included in the OMB-approved inventory for FERC-725D.

• FAC-002-3 (Facility Interconnection Studies) ³ requires each transmission planner and each planning coordinator to study the reliability impact of interconnecting new—or materially modifying existing—generation, transmission, or electricity end-user facilities on affected systems. In particular, Reliability Standard FAC-002-3 requires transmission planners and planning coordinators to perform steady-state, short-circuit, and dynamic studies to evaluate system performance under both normal and contingency conditions. In addition, Reliability Standard FAC-002-3 requires each generator owner seeking to interconnect, each transmission owner, each distribution provider, and each load-serving entity that is seeking to interconnect new—or materially modifying existing—transmission facilities or end-user facilities to coordinate and cooperate on studies with its transmission planner and planning coordinator.

³ The burden associated FAC-002-2 is included in the OMB-approved inventory for FERC-725D. Reliability Standard FAC-002-3 was approved October 30, 2020 by order in Docket No. RD20-4-000. The net reduction in burden associated with FAC-002-3 is pending OMB approval in Docket No. RD20-4-000 and is reflected in this request for a three-year renewal.

• FAC-010-3 (System Operating Limits Methodology for the Planning Horizon) ⁴ requires the planning authority to have a documented methodology for use in developing system operating limits (SOLs) and must retain evidence that it issued its SOL methodology to relevant reliability coordinators, transmission operators and adjacent planning authorities. Likewise, the planning authority must respond to technical comments on the methodology within 45 days of receipt. Further, each planning authority must self-certify its compliance to the compliance monitor once every three years.

⁴ The burden associated with FAC-010-2 is included in the OMB-approved inventory for FERC-725D. Reliability Standard FAC-010-2.1 was approved April 19, 2010 by order in Docket No. RD10-9-000. FAC-010-2.1 did not change the burden associated with FAC-010-2 because it included errata renumbering of specific requirements. Reliability Standard FAC-010-3 was approved November 19, 2015 in FERC Order No. 818, Docket No. RM15-13-000. The only change to the standard was replacing the term “special protection system” with “remedial action scheme.” This change did not result in a change in the information collection.

• FAC-011-3 (System Operating Limits Methodology for the Operations Horizon) ⁵ requires the reliability coordinator to have a documented methodology for use in developing SOLs and must retain evidence that it issued its SOL methodology to relevant reliability coordinators, transmission operators and adjacent planning authorities. Likewise, the reliability coordinator must respond to technical comments on the methodology within 45 days of receipt. Further, each reliability coordinator must self-certify its compliance to the compliance monitor once every three years.

⁵ The burden associated with FAC-011-2 is included in the OMB-approved inventory for FERC-725D. Reliability Standard FAC-011-3 was approved November 19, 2015 in FERC Order No. 818, Docket No. RM15-13-000. The only change to the standard was replacing the term “special protection system” with “remedial action scheme.” This change did not result in a change in the information collection.

• FAC-014-2 (Establish and Communicate System Operating Limits) ⁶ requires the reliability coordinator, planning authority, transmission operator, and transmission planner to verify compliance through self-certification submitted to the compliance monitor annually. These entities must also document that they have developed SOLs consistent with the applicable SOL methodology and that they have provided SOLs to entities identified in Requirement 5 of the Reliability Standard. Further, the planning authority must maintain a list of multiple contingencies and their associated stability limits.

⁶ The burden associated with FAC-014-2 is included in the OMB-approved inventory for FERC-725D.

The associated reporting and recordkeeping requirements included in the Reliability Standards FAC-001-3, FAC010-3, FAC-011-3 and FAC-014-2 above are not being revised, and the Commission requests to extend these requirements for three years. The Commission's request also reflects the following:

• Implementation of FAC-002-3 (as approved by order in Docket No. RD20-4-000).⁷ This includes elimination of the burden associated with the load-serving entity (LSE) function in Requirement R3 of proposed Reliability Standard FAC-002-3. The NERC petition states as the load-serving entity is no longer a NERC registration category, NERC proposed to remove this entity from the applicability section of proposed Reliability Standard FAC-002-3 and remove reference to this entity in Requirement R3.⁸

⁷ The burden associated with FAC-002-2 is included in the OMB-approved inventory for FERC-725D. Reliability Standard FAC-002-3 was approved October 30, 2020 by order in Docket No. RD20-4-000. The change in burden associated with FAC-002-3 is pending OMB approval in Docket No. RD20-4-000 and is reflected in this request for a three-year renewal.

⁸ The petition and exhibits are posted in the Commission's eLibrary system in Docket No. RD20-4-000 (Standards Alignment with Registration Petition).

• Adjustments to the burden estimates due to changes in the NERC Compliance Registry for Reliability Standard FAC-002-3.⁹

⁹ The adjustments to burden estimates associated with FAC-002-3 is pending OMB approval in Docket No. RD20-4-000.

The 60-day notice was published on November 5, 2020 (85 FR 70606), and no comments were received. The burden estimate in the 60-day notice has been updated below to correct the net decrease in burden for Reliability Standard FAC-002-3.

Type of Respondents Type of Respondents: PA/PC, TP, TO, DP, & GO.¹⁰

¹⁰ PA = Planning Authority; PC = Planning Coordinator; TO = Transmission Owner; GO = Generator Owner; DP = Distribution Provider; TP = Transmission Provider.

Estimate of Annual Burden ¹¹ and Cost: ¹² Renewal Docket No. IC21-3. The Commission estimates an increase (adjustment) in the annual public reporting burden for the FERC-725D that follow the standards FAC-001-3, FAC-002-3, FAC-010-3, FAC-011-3, and FAC-014-2. The Commission estimates a net decrease (adjustment) in the annual public reporting burden for the FERC-725D for the Reliability Standard FAC-002-3. The estimate for Reliability Standard FAC-002-3 decreased from 399 to 326 responses.¹³ Burden estimates for the remaining Reliability Standards in FERC-725D are unchanged as follows:

¹¹ Burden is defined as the total time, effort, or financial resources expended by persons to generate, maintain, retain, or disclose or provide information to or for a Federal agency. For further explanation of what is included in the information collection burden, refer to 5 Code of Federal Regulations 1320.3.

¹² The estimates for cost per hour are derived as follows:

• $83.67/hour, the average of the salary plus benefits for a manager ($97.15/hour) and an electrical engineer ($70.19/hour), from Bureau of Labor and Statistics at http://bls.gov/oes/current/naics3_221000.htm, as of June 2020.

• Record and Information Clerks (43-4199): $41.03/hour, based on a Commission staff study of record retention burden cost.

¹³ The OMB-approved burden for FAC-002-2 of 399 responses does not include the responses for record retention as shown in Docket No. RD14-12-000. The net reduction in burden of 146 responses for FAC-002-3 is pending OMB approval under Docket No. RD20-4-000 and reflects

• an adjusted addition of 20 PCs and TPs for studies and evidence retention, which results in an increase of 40 responses; and

• a program and adjusted reduction of 63 de-registered load-serving entities and 30 TOs, GOs, and DPs for coordination and evidence retention, which results in a decrease of 186 responses.

• FAC-001-3 remain unchanged at 498 responses.¹⁴

¹⁴ This is the sum of the OMB-approved burden for FAC-001-2 of 337 responses plus the additional OMB-approved burden for FAC-001-3 of 161 responses. These burden estimates do not include the responses for record retention as shown in Docket No. RD14-12-000.

• FAC-010-3, FAC-011-3 and FAC-014-2 remains unchanged at 470 responses.¹⁵

¹⁵ The OMB-approved burden for FAC-010-3, FAC-011-3 and FAC-014-2 is a joint burden estimate of 470 responses as shown in the 2011 supporting statement for FERC-725D.

The following table shows the previous figures from the 60-day renewal notice in Docket No. IC21-3, the program changes and adjustments from Docket No. RD20-4, and the resulting totals. RD20-4 version update); Version Update RD20-4 has a net decrease (−146) in responses for FAC002-3 (previously FAC002-2) which created a total of 1,957 responses (net change was already calculated in the renewal but omitted the retention totals in prior renewals. For this notice and moving forward, Record Retention will be included in the burden estimates for all standards), as shown below in the table:

Proposed Changes to Burden Due to Docket No. RD20-4-000 and Adjustments and Clarifications ¹⁶
[Version update for FAC-002-3 (formerly FAC-002-2)]
| Number and type of respondent | Annual number of responses per respondent | Total number of responses | Average burden per response (hours) & cost per response | Total annual burden (hours) & total annual cost ($)
| (1) | (2) | (1) * (2) = (3) | (4) | (3) * (4) = (5)
FERC-725D, OMB Control No. 1902-0247
FAC-002-3 (Facility Interconnection Studies) R1 Record Retention—adjustment | +20 (PC & TP) | 1 | +20 | 32 | 640.
FAC-002-3 (Facility Interconnection Studies) R1 Record Retention—adjustment | +20 (PC & TP) | 1 | +20 | 1 | 20.
FAC-002-3 (Facility Interconnection Studies) R2-R5 Coordination—(program decrease & adjustment decrease) ¹⁷ | −93 (TO, GO & DP) ¹⁸ | 1 | 93 | 16 | 1,488.
FAC-002-3 (Facility Interconnection Studies) R2-R5 Record Retention—(program decrease & adjustment decrease) ¹⁹ | −93 (TO, GO & DP) | 1 | −93 | 1 | −93.
Net Total for FERC-725D |  |  | −146 (net reduction) |  | −921 (net reduction).

(Renewal for Docket No. IC21-3-000) FERC-725D: (Mandatory Reliability Standards: FAC (Facilities, Design, Connections, and Maintenance) **
| Number and type of respondent ²⁰ | Annual number of responses per respondent | Total number of responses | Average burden per response (hours) ²¹ & cost per response | Total annual burden (hours) & total annual cost ²² ($)
| (1) | (2) | (1) * (2) = (3) | (4) | (3) * (4) = (5)
FAC-001-3, FAC-002-3, FAC-010-3, FAC-011-3, and FAC-014-2
FAC-001-3 (Documentation & Updates) | GO/TO 498 | 1 | 498 | 34 hrs.; $1,338.72 | 16,932 hrs.; $1,416,700.44.
Record Retention | GO 5 | 1 | 5 | 1 hr.; $41.03 | 5 hrs.; $205.15.
| TO 332 | 1 | 332 | 1 hr.; $41.03 | 332 hrs.; $13,621.96.
| GO/TO 161 | 1 | 161 | 1 hr.; ²³ $41.03 | 161 hrs.; ²³ $6,605.83.
FAC-002-3 (Study & Coordination) | PC, TP 399 | 1 | 399 | 32 hrs.; $2008.08 | 12,768 hrs.; ²⁴ $1,068,298.56.
Record Retention | PC, TP 183 | 1 | 183 | 1 hr.; $41.03 | 183 hrs.; $7,325.49.
| TO, DP, LSE, GO 216 | 1 | 216 | 1 hr.; $41.03 | 216 hrs.; $8,862.48.
FAC-010-2, FAC-011-3, FAC-014-2 (Transmission & Planning) | PA/RC/TP/TO 470 ²⁵ | 1 | 470 | 295.7 hrs.; $24,741.219 | 138,979 hrs.; $11,628,372.93.
Sub-Totals for FERC-725D | 1,367 | 1 | 1,367 | 361.7 hrs | 168,679 hrs.; $14,113,371.93.
FAC-001-3, FAC-002-3, FAC-010-3, FAC-011-3, and FAC-014-2 Totals including Record Retention | 1,957 | 1 | 1,957 | 366.7 hrs | 168,655 hrs.; ²⁶ $14,079,040.68.

¹⁶ The adjustments, due to normal industry fluctuations, are based on figures in the NERC registry as of April 10, 2020.

¹⁷ The reduction of 93 respondents and corresponding burden hours include 63 LSEs that were de-registered (program decrease of 1,008 hrs.) and an adjustment decrease of 30 respondents (480 hrs.) due to normal industry fluctuations.

Out of the total decrease of 1,488 hours, the program decrease of 1,008 hours [corresponding decrease of 63 responses] is due to Docket No. RD20-4-000. The reduction of 480 hours is due to normal adjustments.

¹⁸ Although 1,232 entities are registered as TO, DP, or GO, we expect at the most 123 entities (ten percent) will seek to interconnect and go through the study phase that may require coordination in any given year.

¹⁹ For Record retention—The reduction of 93 respondents and corresponding burden hours include 63 LSEs that were de-registered (program decrease of 63 hrs., due to Docket No. RD20-4-000) and an adjustment decrease of 30 respondents (30 hrs.) due to normal industry fluctuations—this results in doubling of decrease in 93 respondents and increase of 20 additional respondents.

²⁰ The number of respondents is based on the NERC Compliance Registry as of September 24, 2014. Although 2,163 entities are registered as TO, DP, LSE, or GO, as relates to Docket RD14-12, we expect at the most 216 entities (ten percent) will seek to interconnect and go through the study phase that may require coordination in any given year.

²¹ Of the average estimated 295.702 hours per response, 210 hours are for recordkeeping, and 85.702 hours are for reporting.

²² The estimates for cost per hour are derived as follows:

• $83.67/hour, the average of the salary plus benefits for a manager ($97.15/hour) and an electrical engineer ($70.19/hour), from Bureau of Labor and Statistics at http://bls.gov/oes/current/naics3_221000.htm, as of June 2020.

• Record and Information Clerks (43-4199): $41.03/hour, based on a Commission staff study of record retention burden cost.

²³ The average burden hours per response related to FAC-001-3 was listed as 2 hours in the RM16-13 Final Rule, resulting in an annual burden related to FAC-001-3 is 322 hours (from 161 hours in the issued Final Rule).

²⁴ The Previous burden in 60-day notice published on 11/5/2020 was modified to reflect the net changes in burden mention in RD20-4 and incorporated previously omitted record retention burden.

²⁵ The total number of Planning Authorities, Reliability Coordinators, Transmission Planners and Transmission Operators equals 470 (taken from the October 2020, version of NERC's compliance registry).

²⁶ Deducts net proposed changes (−921 hours) totals with retention.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: January 7, 2021.
Nathaniel J. Davis, Sr.,
Deputy Secretary.

[FR Doc. 2021-00513 Filed 1-12-21; 8:45 am]

BILLING CODE 6717-01-P